DEPARTMENT OF THE TREASURY

Office of Foreign Assets Control

Notice of OFAC Sanctions Action

AGENCY: Office of Foreign Assets Control, Department of the Treasury.

ACTION: Notice.

SUMMARY: The Department of the Treasury's Office of Foreign Assets Control (OFAC) is publishing the names of four persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855.

SUPPLEMENTARY INFORMATION:

Electronic Availability

The Specially Designated Nationals and Blocked Persons List and additional information concerning OFAC sanctions programs are available on OFAC's website (www.treasury.gov/ofac).

Notice of OFAC Action(s)

On August 29, 2019, OFAC determined that the property and interests in property subject to U.S. jurisdiction of the following four persons are blocked under the relevant sanctions authority listed below.

Entities

1. JAMMAL TRUST BANK S.A.L. (a.k.a. JAMMAL TRUST BANK; a.k.a. “JTB”), JTB Tower, Elias Hraoui Avenue, Beirut, Lebanon; Jammal Trust Bank SAL Building, Rashid Karame Ave, Beirut, Lebanon; PO Box 11-5640 & 13-5750, Bank's Bldg, Rashid Karameh Ave, Beirut, Lebanon; SCI La Balance, Boulevard Giscard D'estaing, Abidjan, Cote d' Ivoire; 15A Burma Road, Apapa, Lagos State, Nigeria; 3rd Floor, Berkeley Court, 6/7 Pollen St, London W1S 1ND, United Kingdom; Al-Buss, Lebanon; Al Furzol, Lebanon; Baalbeck, Lebanon; Beirut, Lebanon; Bint Jbeil, Lebanon; Bourj El Barajneh, Lebanon; Dora, Lebanon; Ghazieh, Lebanon; Jbeil, Lebanon; Jwaya, Lebanon; Kana, Lebanon; Labwe, Lebanon; Marjeyoun, Lebanon; Nabatieh, Lebanon; Saida, Lebanon; Tibnin, Lebanon; Tripoli, Lebanon; Tyre, Lebanon; Verdun, Lebanon; Abidjan, Cote d' Ivoire; Apapa, Nigeria; London, United Kingdom; SWIFT/BIC JTBKLBBE; Additional Sanctions Information—Subject to Secondary Sanctions Pursuant to the Hizballah Financial Sanctions Regulations; All Branches Worldwide [SDGT] (Linked To: HIZBALLAH).

Designated pursuant to section 1(d)(ii) of Executive Order 13224 of September 23, 2001, “Blocking Property and Prohibiting Transactions With Persons Who Commit, Threaten to Commit, or Support Terrorism” (E.O. 13224) for assisting in, sponsoring, or providing financial, material, or technological support for, or financial or other services to or in support of, HIZBALLAH, an entity whose property and interests in property are blocked pursuant to E.O. 13224.

2. TRUST INSURANCE S.A.L. (a.k.a. TRUST INSURANCE), JTB Tower, Tahweeta High Way, Elias Hraoui Avenue, Beirut, Lebanon; PO Box 15750, Jammal Trust Bank Building, Rachid Karameh Street, Verdun, Lebanon; Verdun, Lebanon; Additional Sanctions Information—Subject to Secondary Sanctions Pursuant to the Hizballah Financial Sanctions Regulations [SDGT] (Linked To: JAMMAL TRUST BANK S.A.L.).

Designated pursuant to section 1(c) of E.O. 13224 for being owned or controlled by JAMMAL TRUST BANK S.A.L., an entity whose property and interests in property are blocked pursuant to E.O. 13224.

3. TRUST INSURANCE SERVICES S.A.L., JTB Tower, Tahweeta High Way, Elias Hraoui Avenue, Beirut, Lebanon; Lebanon; Additional Sanctions Information—Subject to Secondary Sanctions Pursuant to the Hizballah Financial Sanctions Regulations [SDGT] (Linked To: JAMMAL TRUST BANK S.A.L.).

Designated pursuant to section 1(c) of E.O. 13224 for being owned or controlled by JAMMAL TRUST BANK S.A.L., an entity whose property and interests in property are blocked pursuant to E.O. 13224.

4. TRUST LIFE INSURANCE COMPANY S.A.L. (a.k.a. TRUST LIFE; a.k.a. TRUST LIFE INSURANCE CO SAL), JTB Tower, Tahweeta High Way, Elias Hraoui Avenue, Beirut, Lebanon; Jamal Trust Vabk Building, Beirut, Lebanon; Beirut, Lebanon; Additional Sanctions Information—Subject to Secondary Sanctions Pursuant to the Hizballah Financial Sanctions Regulations [SDGT] (Linked To: JAMMAL TRUST BANK S.A.L.).

Designated pursuant to section 1(c) of E.O. 13224 for being owned or controlled by JAMMAL TRUST BANK S.A.L., an entity whose property and interests in property are blocked pursuant to E.O. 13224.

Dated: August 29, 2019.
Andrea Gacki,
Director, Office of Foreign Assets Control.

[FR Doc. 2019-19115 Filed 9-4-19; 8:45 am]

BILLING CODE 4810-AL-P